DEPARTMENT OF COMMERCE

National Oceanic and Atmospheric Administration

[I.D. 112706C]

Pacific Fishery Management Council; Public Meetings

AGENCY: National Marine Fisheries Service (NMFS), National Oceanic and Atmospheric Administration (NOAA), Commerce.

ACTION: Notice of public meeting.

SUMMARY: The Pacific Fishery Management Council's (Council) Scientific and Statistical Committee is hosting a public workshop, which is open to the public, on December 18-20, 2006. The primary purpose of the meetings is to evaluate aspects of the Council's groundfish harvest policies and assessment methodologies.

DATES: The workshop is scheduled to begin at 9 a.m. on Monday, December 18, 2006 and conclude at 12 p.m. on Wednesday, December 20, 2006. The workshop will start at 9 a.m. each day and on end at 5 p.m. on Monday and Tuesday, or as necessary to complete each day's business.

ADDRESSES: All meetings will be held at the National Marine Fisheries Service, Southwest Fisheries Science Center, 8604 La Jolla Shores Drive, La Jolla, CA 92037; telephone: (858) 546-7000.

Council address: Pacific Fishery Management Council, 7700 NE Ambassador Place, Suite 101, Portland, OR 97220-1384.

FOR FURTHER INFORMATION CONTACT: Mr. John DeVore, Pacific Fishery Management Council; telephone: (503) 820-2280.

SUPPLEMENTARY INFORMATION: The workshop will address the following three issues: (1) Evaluate the performance of the 40-10 harvest policy for stocks with different life history and stock-recruit patterns, (2) Evaluate alternative methods to estimate proxies for initial or unfished biomass (B0) and the biomass that produces maximum sustainable yield (BMSY) and provide recommendations on their use, and (3) Provide recommendations on the use of priors for key assessment parameters in stock assessment models. Parameter for which priors could potentially be useful include natural mortality, stock-recruit, steepness, survey catchability, and recruitment variability. Workshop participants will develop guidance for stock assessment authors and provide recommendations for consideration by the Council and its advisory bodies. No management actions will be decided at this workshop.

Although non-emergency issues not contained in the meeting agendas may be discussed, those issues may not be the subject of formal action during these meetings. Advisory body action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280 at least 5 days prior to the meeting date.

Dated: November 28, 2006.
Tracey L. Thompson,
Acting Director, Office of Sustainable Fisheries, National Marine Fisheries Service.

[FR Doc. E6-20320 Filed 11-30-06; 8:45 am]

BILLING CODE 3510-22-S